DEPARTMENT OF LABOR

Occupational Safety and Health Administration

[Docket No. OSHA-2010-0045]

Advisory Committee on Construction Safety and Health (ACCSH)

AGENCY: Occupational Safety and Health Administration (OSHA), Labor.

ACTION: Announcement of a meeting of the Advisory Committee on Construction Safety and Health (ACCSH) and ACCSH Work Group meetings.

SUMMARY: ACCSH will meet December 9 and 10, 2010 in Washington, DC. In conjunction with the ACCSH meeting, ACCSH Work Groups will meet December 7 and 8, 2010.

DATES:

ACCSH: ACCSH will meet from 8 a.m. to 4 p.m., Thursday, December 9, 2010, and from 8 a.m. to noon, Friday, December 10, 2010.

ACCSH Work Groups: ACCSH Work Groups will meet Tuesday, December 7, and Wednesday, December 8, 2010. (For Work Group meeting times and locations, see the Work Group Schedule information in the SUPPLEMENTARY INFORMATION section of this notice.)

Written comments, requests to speak, speaker presentations, and requests for special accommodation: Comments, requests to address the ACCSH meeting, written or electronic speaker presentations, and requests for special accommodations for the ACCSH and ACCSH Work Group meetings must be submitted (postmarked, sent, transmitted) by November 24, 2010.

ADDRESSES: ACCSH and ACCSH Work Group: ACCSH and ACCSH Work Group meetings will be held in Room N-3437 A-C, U.S. Department of Labor, 200 Constitution Avenue, NW., Washington DC 20210.

Submission of comments, requests to speak, and speaker presentations: Interested persons may submit comments, requests to speak at the ACCSH meeting, and speaker presentations using any one of the following methods:

Electronically: You may submit materials, including attachments, electronically at http://www.regulations.gov, which is the Federal eRulemaking Portal. Follow the on-line instructions for submissions or comments.

Facsimile (Fax): If your submission, including attachments, does not exceed 10 pages, you may fax it to the OSHA Docket Office at (202) 693-1648.

Mail, hand delivery, express mail, messenger, or courier service: You may submit a copy of your comments, request to speak, and speaker presentation to the OSHA Docket Office, Docket No. OSHA-2010-0045, Room N-2625, U.S. Department of Labor, 200 Constitution Avenue, NW., Washington, DC 20210; telephone (202) 693-2350 (TTY (877) 889-5627). Deliveries (hand deliveries, express mail, messenger, and courier service) are accepted during the Department of Labor's and OSHA Docket Office's normal business hours, 8:15 a.m.-4:45 p.m., e.t., weekdays. Because of security-related procedures, submissions by regular mail may experience significant delays.

Requests for special accommodations: Please submit requests for special accommodation to attend the ACCSH and ACCSH Work Group meetings to Ms. Veneta Chatmon, OSHA, Office of Communications, Room N-3647, U.S. Department of Labor, 200 Constitution Avenue, NW., Washington, DC 20210; telephone (202) 693-1999; e-mail chatmon.veneta@dol.gov.

FOR FURTHER INFORMATION CONTACT:

For press inquiries: Ms. MaryAnn Garrahan, OSHA, Office of Communications, Room N-3647, U.S. Department of Labor, 200 Constitution Avenue, NW., Washington, DC 20210; telephone (202) 693-1999.

For general information about ACCSH and ACCSH meetings: Mr. Francis Dougherty, OSHA, Directorate of Construction, Room N-3468, U.S. Department of Labor, 200 Constitution Avenue, NW., Washington, DC 20210; telephone (202) 693-2020; e-mail dougherty.francis@dol.gov.

SUPPLEMENTARY INFORMATION:

ACCSH Meeting

ACCSH will meet Thursday, December 9, 2010, and Friday, December 10, 2010, in Washington DC. The meeting is open to the public.

ACCSH is authorized to advise the Secretary of Labor and Assistant Secretary of Labor for Occupational Safety and Health (Assistant Secretary) in the formulation of standards affecting the construction industry and on policy matters arising in the administration of the safety and health provisions under the Contract Work Hours and Safety Standards Act (Construction Safety Act) (40 U.S.C. 3701 et seq.) and the Occupational Safety and Health Act of 1970 (29 U.S.C. 651 et seq.)(see also 29 CFR 1911.10 and 1912.3).

The agenda topics for this meeting include:

• Welcome/Remarks from the Office of the Assistant Secretary;

• Remarks from the Directorate of Construction;

• Mast Climbing Work Platform presentation;

• Update on the Injury and Illness Prevention Program rulemaking;

• Update on the Severe Violator Enforcement Program;

• Update on Cooperative and State Programs;

• Work Group Reports, Work Group and Committee Administration;

• Public Comment Period.

ACCSH meetings are transcribed and detailed minutes of the meetings are prepared. The transcript and minutes are placed in the public docket for the meeting. The docket also includes ACCSH Work Group reports, speaker presentations, comments, and other materials and requests submitted to the Committee.

ACCSH Work Group Meetings

In conjunction with the ACCSH meeting, the following ACCSH Work Groups will meet December 7-8, 2010:

Tuesday, December 7

• Multilingual Issues in Construction—8 to 10 a.m.;

• Power Fastening Tools (Nailguns)—10:10 a.m. to 12:10 p.m.;

• Residential Fall Protection—1 to 3 p.m.;

• Green Jobs in Construction—3:10 to 5:10 p.m.

Wednesday, December 8

• Diversity—Women in Construction—8 to 10 a.m.;

• Silica and Other Construction Health Hazards—10:10 a.m. to 12:10 p.m.;

• Prevention by Design—1 to 3 p.m.;

• Education and Training (OTI)—3:10 to 5:10 p.m.

For additional information on ACCSH Work Group meetings or participating in them, please contact Mr. Dougherty or look on the ACCSH page on OSHA's Web page at http://www.osha.gov.

Public Participation

ACCSH Meetings and ACCSH Work Group Meetings: ACCSH and ACCSH Work Group meetings are open to the public. Individuals needing special accommodations to attend the ACCSH and ACCSH Work Group meetings should contact Ms. Chatmon (see ADDRESSES section).

Submission of written comments, requests to address ACCSH, and speaker presentations: Interested persons may submit comments, requests to address ACCSH, and speaker presentations (1) electronically, (2) by fax, or (3) by hard copy (mail, hand delivery, express mail, messenger, and courier). All submissions must include the Agency name and docket number for this ACCSH meeting (Docket No. OSHA-2010-0045). OSHA will provide copies of submissions to ACCSH members.

Because of security-related procedures, submissions by regular mail may experience significant delays. For information about security procedures for submitting materials by hand delivery, express mail, messenger, or courier service, contact the OSHA Docket Office.

Requests to address ACCSH: Individuals who want to address ACCSH at the meeting must submit their requests to speak and their written or electronic presentations (e.g., PowerPoint) by November 24, 2010. The request must state the amount of time desired to speak, the interest the presenter represents (e.g., business, organization, affiliation), if any, and a brief outline of the presentation. PowerPoint presentations and other electronic materials must be compatible with PowerPoint 2003 and other Microsoft Office 2003 formats. Alternately, at the ACCSH meeting, individuals may request to address ACCSH by signing the public comment request sheet and listing the interests they represent, if any, and the topic(s) to be addressed. In addition, they must provide 20 hard copies of any materials, written or electronic, that they want to present to ACCSH.

Requests to address the Committee may be granted at the ACCSH Chair's discretion and as time and circumstances permit.

Public docket of the ACCSH meeting: Comments, requests to speak and speaker presentations, including any personal information you provide, will be placed in the public docket of this ACCSH meeting without change and may be available online at http://www.regulations.gov. Therefore, OSHA cautions you about submitting certain personal information such as social security numbers and birthdates.

The meeting transcript, meeting minutes, documents presented at the ACCSH meeting, Work Group reports, and other documents pertaining to involving this ACCSH meeting also are placed in the public docket and may be available online at http://www.regulations.gov.

Access to the public record of ACCSH meetings, including Work Group reports: To read or download documents in the public docket of this ACCSH meeting, including the transcript, meeting minutes, Work Group reports and other submissions, go to Docket No. OSHA-2010-0045 at http://www.regulations.gov. The meeting record and all submissions for this meeting are listed in the http://www.regulations.gov index; however, some documents (e.g., copyrighted materials) are not publicly available through the Web page. The record and all submissions, including materials not available through http://www.regulations.gov are available for inspection and copying in the OSHA Docket Office (see ADDRESSES). Please contact the OSHA Docket Office for assistance making submissions to or obtaining materials from the public docket.

Authority and Signature

David Michaels, Ph.D., MPH, Assistant Secretary of Labor for Occupational Safety and Health, directed the preparation of this notice under the authority granted by section 7 of the Occupational Safety and Health Act of 1970 (29 U.S.C. 656), section 107 of the Contract Work Hours and Safety Standards Act (Construction Safety Act) (40 U.S.C. 3704), the Federal Advisory Committee Act (5 U.S.C. App. 2), 29 CFR Parts 1911 and 1912, 41 CFR Part 102, and Secretary of Labor's Order No. 4-2010 (75 FR 55355 (9/10/2010)).

Signed at Washington, DC, this 15th day of November 2010.
David Michaels,
Assistant Secretary of Labor for Occupational Safety and Health.

[FR Doc. 2010-29124 Filed 11-17-10; 8:45 am]

BILLING CODE 4510-26-P